DEPARTMENT OF ENERGY

[Case Number 2022-008; EERE-2022-BT-WAV-0027]

Energy Conservation Program: Notification of Petition for Waiver of Alliance Laundry Systems From the Department of Energy Clothes Washer Test Procedure and Notification of Grant of Interim Waiver

AGENCY: Office of Energy Efficiency and Renewable Energy, Department of Energy.

ACTION: Notification of petition for waiver and grant of an interim waiver; request for comments.

SUMMARY: This notification announces receipt of and publishes a petition for waiver and interim waiver from Alliance Laundry Systems (“Alliance”), which seeks a waiver for a specified residential clothes washer basic models from the U.S. Department of Energy (“DOE”) test procedure used for determining the efficiency of clothes washers. DOE also gives notification of an Interim Waiver Order that requires Alliance to test and rate the specified residential clothes washer basic models in accordance with the alternate test procedure set forth in the Interim Waiver Order. DOE solicits comments, data, and information concerning Alliance's petition and its suggested alternate test procedure to inform DOE's final decision on Alliance's waiver request.

DATES: Written comments and information are requested and will be accepted on or before May 1, 2023.

ADDRESSES: Interested persons are encouraged to submit comments using the Federal eRulemaking Portal at www.regulations.gov under docket number EERE-2022-BT-WAV-0027. Follow the instructions for submitting comments. Alternatively, interested persons may submit comments, identified by docket number EERE-2022-BT-WAV-0027, by any of the following methods:

Email: AllianceLaundrySystemsCW2022WAV0027@ee.doe.gov. Include the case number [Case No. 2022-008] in the subject line of the message.

Postal Mail: Appliance and Equipment Standards Program, U.S. Department of Energy, Building Technologies Office, Mailstop EE-5B, Petition for Waiver [Case No. 2022-008], 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted. For detailed instructions on submitting comments and additional information on this process, see the SUPPLEMENTARY INFORMATION section of this document.

Docket: The docket for this activity, which includes Federal Register notices, public meeting attendee lists and transcripts (if a public meeting is held), comments, and other supporting documents/materials, is available for review at www.regulations.gov. All documents in the docket are listed in the www.regulations.gov index. However, not all documents listed in the index may be publicly available, such as information that is exempt from public disclosure.

The docket web page can be found at www.regulations.gov/docket/EERE-2022-BT-WAV-0027. The docket web page contains instructions on how to access all documents, including public comments, in the docket.

FOR FURTHER INFORMATION CONTACT: Ms. Julia Hegarty, U.S. Department of Energy, Office of Energy Efficiency and Renewable Energy, Building Technologies Office, Mailstop EE-5B, 1000 Independence Avenue SW, Washington, DC 20585-0121. Telephone: (202) 586-0729. Email: AS_Waiver_Request@ee.doe.gov. Ms. Melanie Lampton, U.S. Department of Energy, Office of the General Counsel, Mail Stop GC-33, Forrestal Building, 1000 Independence Avenue SW, Washington, DC 20585-0103. Telephone: (240) 751-5157. Email: Melanie.Lampton@hq.doe.gov.

SUPPLEMENTARY INFORMATION: DOE is publishing Alliance's petition for waiver in its entirety, pursuant to 10 CFR 430.27(b)(1)(iv).¹ DOE is also publishing the Interim Waiver Order granted to Alliance, which serves as notification of DOE's determination regarding Alliance's petition for an interim waiver, pursuant to 10 CFR 430.27(e)(3). DOE invites all interested parties to submit in writing by May 1, 2023, comments and information on all aspects of the petition, including the alternate test procedure. Pursuant to 10 CFR 430.27(d), any person submitting written comments to DOE must also send a copy of such comments to the petitioner. The contact information for the petitioner is Daryl Johnson, Daryl.Johnson@alliancels.com, P.O. Box 990, Shepard Street, Ripon, WI 54971.

¹ The petition did not identify any of the information contained therein as confidential business information.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail also will be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email two well-marked copies: one copy of the document marked confidential including all the information believed to be confidential, and one copy of the document marked “non-confidential” with the information believed to be confidential deleted. Submit these documents via email. DOE will make its own determination about the confidential status of the information and treat it according to its determination.

It is DOE's policy that all comments may be included in the public docket, without change and as received, including any personal information provided in the comments (except information deemed to be exempt from public disclosure).

Case Number 2022-008

Interim Waiver Order

I. Authority

The Energy Policy and Conservation Act, as amended (“EPCA”),² authorizes the U.S. Department of Energy (“DOE”) to regulate the energy efficiency of a number of consumer products and certain industrial equipment. (42 U.S.C. 6291-6317) Title III, Part B of EPCA ³ established the Energy Conservation Program for Consumer Products Other Than Automobiles, which sets forth a variety of provisions designed to improve energy efficiency for certain types of consumer products. These products include residential clothes washers, the subject of this document. (42 U.S.C. 6292(a)(7))

² All references to EPCA in this document refer to the statute as amended through the Energy Act of 2020, Public Law 116-260 (Dec. 27, 2020), which reflect the last statutory amendments that impact Parts A and A-1 of EPCA.

³ For editorial reasons, upon codification in the U.S. Code, Part B was redesignated as Part A.

The energy conservation program under EPCA consists essentially of four parts: (1) testing, (2) labeling, (3) Federal energy conservation standards, and (4) certification and enforcement procedures. Relevant provisions of EPCA include definitions (42 U.S.C. 6291), test procedures (42 U.S.C. 6293), labeling provisions (42 U.S.C. 6294), energy conservation standards (42 U.S.C. 6295), and the authority to require information and reports from manufacturers (42 U.S.C. 6296).

The Federal testing requirements consist of test procedures that manufacturers of covered products must use as the basis for: (1) certifying to DOE that their products comply with the applicable energy conservation standards adopted pursuant to EPCA (42 U.S.C. 6295(s)), and (2) making representations about the efficiency of that product (42 U.S.C. 6293(c)). Similarly, DOE must use these test procedures to determine whether the product complies with relevant standards promulgated under EPCA. (42 U.S.C. 6295(s))

Under 42 U.S.C. 6293, EPCA sets forth the criteria and procedures DOE is required to follow when prescribing or amending test procedures for covered products. EPCA requires that any test procedures prescribed or amended under this section must be reasonably designed to produce test results which reflect the energy efficiency, energy use or estimated annual operating cost of a covered product during a representative average use cycle or period of use and requires that test procedures not be unduly burdensome to conduct. (42 U.S.C. 6293(b)(3)) The test procedure for clothes washers is contained in the Code of Federal Regulations (“CFR”) at 10 CFR part 430, subpart B, appendix J2, Uniform Test Method for Measuring the Energy Consumption of Automatic and Semi-Automatic Clothes Washers (“appendix J2”).

Under 10 CFR 430.27, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. 10 CFR 430.27(f)(2). A petitioner must include in its petition any alternate test procedures known to the petitioner to evaluate the performance of the product type in a manner representative of the energy consumption characteristics of the basic model. 10 CFR 430.27(b)(1)(iii). DOE may grant the waiver subject to conditions, including adherence to alternate test procedures. 10 CFR 430.27(f)(2).

As soon as practicable after the granting of any waiver, DOE will publish in the Federal Register a notice of proposed rulemaking to amend its regulations so as to eliminate any need for the continuation of such waiver. 10 CFR 430.27(l). As soon thereafter as practicable, DOE will publish in the Federal Register a final rule to that effect. Id.

The waiver process also provides that DOE may grant an interim waiver if it appears likely that the underlying petition for waiver will be granted and/or if DOE determines that it would be desirable for public policy reasons to grant immediate relief pending a determination on the underlying petition for waiver. 10 CFR 430.27(e)(3). Within one year of issuance of an interim waiver, DOE will either: (i) publish in the Federal Register a determination on the petition for waiver; or (ii) publish in the Federal Register a new or amended test procedure that addresses the issues presented in the waiver. 10 CFR 430.27(h)(1).

If the interim waiver test procedure methodology is different than the decision and order test procedure methodology, certification reports to DOE required under 10 CFR 429.12 and any representations must be based on either of the two methodologies until 180 days after the publication date of the decision and order. Thereafter, certification reports and any representations must be based on the decision and order test procedure methodology, unless otherwise specified by DOE. 10 CFR 430.27(i)(1). When DOE amends the test procedure to address the issues presented in a waiver, the waiver or interim waiver will automatically terminate on the date on which use of that test procedure is required to demonstrate compliance. 10 CFR 429.27(h)(3).

II. Background

On June 1, 2022, DOE published a final rule (“June 2022 Final Rule”) amending DOE's clothes washer test procedures prescribed at 10 CFR part 430, subpart B, appendix J2. 87 FR 33316. Appendix J2 is currently required for use to demonstrate compliance with the currently applicable energy conservation standards. The June 2022 Final Rule also established a new test procedure at 10 CFR part 430, subpart B, appendix J (“appendix J”). Use of appendix J is not required until the compliance date of any energy conservation standards amended based on the test procedure in appendix J, should such amendments be adopted.

Prior to the amendments promulgated by the June 2022 Final Rule, section 1 of appendix J2 defined an automatic WFCS as “a clothes washer water fill control system that does not allow or require the user to determine or select the water fill level, and includes adaptive water fill control systems and fixed water fill control systems.” A fixed WFCS was defined as “a clothes washer automatic water fill control system that automatically terminates the fill when the water reaches an appropriate level in the clothes container;” ⁴ and an adaptive WFCS was defined as “a clothes washer automatic water fill control system that is capable of automatically adjusting the water fill level based on the size or weight of the clothes load placed in the clothes container.” Prior to the amendments promulgated by the June 2022 Final Rule, appendix J2 did not provide an explicit definition for user-adjustable automatic WFCS; however, section 3.2.6.2.2 of appendix J2 specified that a user-adjustable automatic WFCS “affect[s] the relative wash water levels.” Section 3.2.6.2.2 also specified the testing provisions applicable to clothes washers with a user-adjustable automatic WFCS.⁵

⁴ In the June 2022 Final Rule, DOE amended the definition of fixed WFCS to mean “a clothes washer automatic water fill control system that automatically terminates the fill when the water reaches a pre-defined level that is not based on the size or weight of the clothes load placed in the clothes container, without allowing or requiring the user to determine or select the water fill level.” 87 FR 33316, 33358, 33396.

⁵ Specifically, section 3.2.6.2.2 of appendix J2 (prior to the amendments promulgated by the June 2022 Final Rule) specified that on clothes washers with a user-adjustable automatic WFCS, four tests are conducted: (1) using the maximum test load and the WFCS set in the setting that gives the most energy intensive result, (2) using the minimum test load and the WFCS set in the setting that that gives the most energy intensive result, (3) using the average test load and the WFCS set in the setting that that gives the most energy intensive result, and (4) using the average test load and the WFCS set in the setting that that gives the most energy intensive result.

In the June 2022 Final Rule, DOE established a more explicit definition of a user-adjustable adaptive WFCS as “a clothes washer fill control system that allows the user to adjust the amount of water that the machine provides, which is based on the size or weight of the clothes load placed in the clothes container.” ⁶ 87 FR 33316, 33358, 33396. In conjunction with this change, DOE amended all instances of the term “user-adjustable automatic” to instead read “user-adjustable adaptive.” ⁷ Id. As a result of this change in terminology, the testing provisions at section 3.2.6.2.2 in appendix J2 as amended by the June 2022 Final Rule apply only to clothes washers with a user-adjustable adaptive WFCS, rather than a user-adjustable automatic WFCS (i.e., the provisions at section 3.2.6.2.2 no longer accommodate a user-adjustable fixed WFCS).

⁶ In the notice of proposed rulemaking preceding the June 2022 Final Rule, DOE had proposed to establish this definition for the term user-adjustable automatic WFCS [emphasis added]. 86 FR 49140, 49181 (Sep. 1, 2021). In response to this proposal, DOE received a comment stating that the proposed definition—by referencing that the amount of water is adjusted based on the size or weight of the clothes load placed in the clothes container—would include only user-adjustable adaptive WFCSs and not user-adjustable fixed WFCSs (since fixed WFCSs do not adjust the amount of water based on the size or weight of the clothing load). 87 FR 33316, 33358.

⁷ In the June 2022 Final Rule, DOE posited that that a WFCS that provides user-adjustable fixed fill water levels would essentially be a manual WFCS, in the sense that a manual fill WFCS automatically terminates the fill when the water reaches the level in the clothes container corresponding to the level select by the user (i.e., a “fixed” water level that is not automatically determined based on the size or weight of the clothes load and is selectable (i.e., adjustable) by the user). 87 FR 33316, 33358-33359.

III. Alliance's Petition for Waiver and Interim Waiver

On October 28, 2022, DOE received from Alliance a petition for waiver and interim waiver from the test procedure for clothes washers set forth at 10 CFR part 430, subpart B, appendix J2.⁸ (Alliance, No. 1 at p. 1) ⁹ Pursuant to 10 CFR 430.27(e)(1), DOE posted the petition on the DOE website, at: www.energy.gov/eere/buildings/current-test-procedure-waivers#Clothes%20Washers. The petition did not identify any of the information contained therein as confidential business information.

⁸ The specific basic models for which the petition applies are Speed Queen R16 and Huebsch R16. These basic model names were provided by Alliance in its October 28, 2022, petition.

⁹ A notation in this form provides a reference for information that is in the docket for this test procedure waiver (Docket No. EERE-2022-BT-WAV-0027) (available at www.regulations.gov/document/EERE-2022-BT-WAV-0027-0001). This notation indicates that the statement preceding the reference is document number 1 in the docket and appears at page 1 of that document.

In its petition for waiver and interim waiver, Alliance asserts that the change in wording from user-adjustable automatic WFCS to user-adjustable adaptive WFCS in the appendix J2 test procedure as finalized in the June 2022 Final Rule results in a lack of instruction as to how to test clothes washer basic models from Alliance that have a user-adjustable fixed WFCS. (Alliance, No. 1 at p. 1)

As presented in Alliance's petition, the specified basic models have a fixed WFCS and also have a “Deep Fill” button that allows the user to adjust the relative water level for each cycle. (Id.) Alliance stated that the specified basic models met the definition of a “user-adjustable automatic water fill control system,” as defined in appendix J2 prior to the June 2022 Final Rule. (Id.) Alliance noted that since the term was changed to be “user-adjustable adaptive water fill control system” in the June 2022 Final Rule, the specified basic models are no longer included in the definition. (Id.) ¹⁰

¹⁰ New appendix J, which will be required for use at the time of any potential amended standards, resolves this issue by not differentiating test provisions by type of WFCS. If granted, this waiver would apply only to appendix J2 testing.

As discussed in the following section of this document, Alliance requested a waiver that would reinstate testing instructions for clothes washers with a user-adjustable fixed WFCS.

Alliance also requested an interim waiver from the existing DOE test procedure, explaining that if DOE were to deny its application for waiver and interim waiver, its affected models would need to be taken off the market, resulting in the loss of around 40 percent of Alliance's retail top-loading clothes washer sales and accompanying clothes dryers. (Id. at p. 2) DOE will grant an interim waiver if it appears likely that the petition for waiver will be granted, and/or if DOE determines that it would be desirable for public policy reasons to grant immediate relief pending a determination of the petition for waiver. 10 CFR 430.27(e)(3).

IV. Requested Alternate Test Procedure

EPCA requires that manufacturers use DOE test procedures when making representations about the energy consumption and energy consumption costs of covered products. (42 U.S.C. 6293(c)) Consistency is important when making representations about the energy efficiency of covered products, including when demonstrating compliance with applicable DOE energy conservation standards. Pursuant to 10 CFR 430.27, and after consideration of public comments on the petition, DOE may establish in a subsequent Decision and Order an alternate test procedure for the basic models addressed by the Interim Waiver Order.

Alliance seeks to use an alternate test procedure to test and rate its clothes washer basic models subject to its petition. The alternate test procedure requested by Alliance would apply the provisions specified in section 3.2.6.2.2 of appendix J2 (as amended by the June 2022 Final Rule) for a user-adjustable adaptive WFCS to Alliance's models with a user-adjustable fixed WFCS.¹¹ These provisions are consistent with the provisions in section 3.2.6.2.2 of appendix J2 (prior to the June 2022 Final Rule) that were previously applicable to models with a user-adjustable fixed WFCS. (Alliance, No. 1 at pp. 1-2)

¹¹ Specifically, section 3.2.6.2.2 of appendix J2 as amended by the June 2022 Final Rule specifies the following test provisions for clothes washers with a user-adjustable adaptive WFCS: Conduct four tests on clothes washers with user-adjustable adaptive water fill controls. Conduct the first test using the maximum test load and with the adaptive water fill control system set in the setting that uses the most water. Conduct the second test using the minimum test load and with the adaptive water fill control system set in the setting that uses the least water. Conduct the third test using the average test load and with the adaptive water fill control system set in the setting that uses the most water. Conduct the fourth test using the average test load and with the adaptive water fill control system set in the setting that uses the least water. Average the results of the third and fourth tests to obtain the energy and water consumption values for the average test load size.

In its petition, Alliance asserted that testing provisions specified in appendix J2 as amended by the June 2022 Final Rule for a clothes washer with a user-adjustable adaptive WFCS would provide results that most represent real water and energy characteristics of the basic models subject to its petition because these provisions reflect how the end user would interact with these products, which would be the same as for other manufacturers' models that also include a deep fill option and are tested using this method. Additionally, Alliance asserted that this method would require half of the test runs to be run with deep fill off and half with deep fill on, such that the water usage for all possible settings that affect water level in the DOE test cycle would be tested and factored into the final result. (Id. at p. 2)

V. Interim Waiver Order

DOE has reviewed Alliance's application for an interim waiver, the alternate test procedure requested by Alliance, and the control panel and user manual of the basic models subject to the petition as well as control panels and user manuals of other clothes washer models on the market with similar “Deep Fill” type options, but which have a user-adjustable adaptive WFCS.¹²

¹² The user manual for an individual model concerned by the waiver request is available at docs.alliancelaundry.com/tech_pdf/Production/204807en.pdf. User manuals for other models with “Deep Fill” options are available at products.geappliances.com/MarketingObjectRetrieval/Dispatcher?RequestType=PDF&Name=49-3000255-2.pdf&_ga=2.25206205.1455460763.1668610312-280138474.1643989292 and www.maytag.com/content/dam/global/documents/201910/owners-manual-w11197727-reva.pdf.

DOE's review of these materials indicates that the basic models subject to this petition provide the same user interface and implementation of the “Deep Fill” setting as other models with a user-adjustable adaptive WFCS, suggesting that consumer usage of this feature on the Alliance basic models would be similar to the consumer usage of the deep fill feature on other clothes washer models with a user-adjustable adaptive WFCS. Given this comparison, DOE has initially determined that testing the basic models subject to Alliance's petition using the alternate test procedure requested by Alliance would evaluate the performance of these basic models in a manner representative of the basic models' energy and water consumption characteristics.

In summary, DOE has initially determined that the alternate test procedure appears to allow for the accurate measurement of the efficiency of the specified basic models, while alleviating the testing problems cited by Alliance in implementing the DOE test procedure for these basic models. Consequently, DOE has determined that Alliance's petition for waiver likely will be granted. Furthermore, DOE has determined that it is desirable for public policy reasons to grant Alliance immediate relief pending a determination of the petition for waiver.

For the reasons stated, it is ordered that:

(1) Alliance must test and rate the following residential clothes washer basic models with the alternate test procedure set forth in paragraph (2).

Brand | Basic model
Speed Queen | R16
Huebsch | R16

(2) The alternate test procedure for the Alliance basic models identified in paragraph (1) of this Interim Waiver Order is the test procedure for clothes washers prescribed by DOE at 10 CFR part 430, subpart B, appendix J2, using the provisions specified in section 3.2.6.2.2 of appendix J2 for a clothes washer with a user-adjustable adaptive WFCS. All other requirements of appendix J2 and DOE's regulations remain applicable.

(3) Representations. Alliance may not make representations about the efficiency of a basic model listed in paragraph (1) of this Interim Waiver Order for compliance, marketing, or other purposes unless that basic model has been tested in accordance with the provisions set forth in this alternate test procedure and such representations fairly disclose the results of such testing.

(4) This Interim Waiver Order shall remain in effect according to the provisions of 10 CFR 430.27.

(5) This Interim Waiver Order is issued on the condition that the statements, representations, test data, and documentary materials provided by Alliance are valid. If Alliance makes any modifications to the controls or configurations of a basic model subject to this Interim Waiver Order, such modifications will render the waiver invalid with respect to that basic model, and Alliance will either be required to use the current Federal test method or submit a new application for a test procedure waiver. DOE may rescind or modify this waiver at any time if it determines the factual basis underlying the petition for the Interim Waiver Order is incorrect, or the results from the alternate test procedure are unrepresentative of the basic model's true energy consumption characteristics. 10 CFR 430.27(k)(1). Likewise, Alliance may request that DOE rescind or modify the Interim Waiver Order if Alliance discovers an error in the information provided to DOE as part of its petition, determines that the interim waiver is no longer needed, or for other appropriate reasons. 10 CFR 430.27(k)(2).

(6) Issuance of this Interim Waiver Order does not release Alliance from the applicable requirements set forth at 10 CFR part 429.

DOE makes decisions on waivers and interim waivers for only those basic models specifically set out in the petition, not future models that may be manufactured by the petitioner. Alliance may submit a new or amended petition for waiver and request for grant of interim waiver, as appropriate, for additional basic models of clothes washers. Alternatively, if appropriate, Alliance may request that DOE extend the scope of a waiver or an interim waiver to include additional basic models employing the same technology as the basic model(s) set forth in the original petition consistent with 10 CFR 430.27(g).

Signing Authority

This document of the Department of Energy was signed on March 28, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 28, 2023.
Treena V. Garrett,
Federal Register Liaison Officer, U.S. Department of Energy.

October 28, 2022

Julia Hegarty

AS_Waiver_Requests@ee.doe.gov

Re: Waiver Petition

On behalf of Alliance Laundry Systems, I would like to submit this petition for waiver and interim waiver for our R16 basic model of clothes washer. Please see the items below for the information required for this petition.

1. Identify the particular basic model(s) for which a waiver is requested.

a. The requested waiver will cover models included in Alliance Laundry Systems basic model R16.

2. Brand names under which the identified basic model(s) will be distributed in commerce.

a. These models are distributed under the Speed Queen and Huebsch brand names.

3. Design characteristic(s) constituting the grounds for the petition.

a. This basic model has a user adjustable “automatic” water fill control system, rather than a user adjustable “adaptive” water fill control system as redefined in the amended J2 procedure which machines must be tested to starting November 28, 2022.

4. Specific requirements sought to be waived.

a. Requesting that the requirement to meet the definition of user adjustable “adaptive” water fill control system as redefined in the amended J2 test procedure effective July 1, 2022 is waived, and allow this basic model to continue being testing as a user adjustable “automatic” water fill control system until the next standards revision.

5. Discuss in detail the need for the requested waiver.

a. The amended test J2 test procedure with effective date of July 1, 2022 would make a small change in wording that would have a profound effect for the Alliance R16 basic model of clothes washer. The Alliance washer has a fixed fill system, and also has a “Deep Fill” button that allows the user to adjust the relative water level for each cycle. This fits within the current test procedure applicable to a “user-adjustable automatic water fill control system.” See current 10 CFR part 430, subpart B, App. J2 (Uniform Test Method for Measuring the Energy Consumption of Automatic and Semi-automatic Clothes Washers), § 3.2.6.2. The definition in the amended version of J2 would make a material change by changing “automatic” to “adaptive” (“user-adjustable adaptive water fill control system”). It appears that this change could exclude the Alliance washer from the new definition “user-adjustable adaptive water fill control system.” For the new Appendix J there is a clear definition (Table III.2) that would move this product into the category of a “manual fill”, but there is not a new definition for this type of WFCS in the amended J2.

6. Identify manufacturers of all other basic models distributed in commerce in the United States and known to the petitioner to incorporate design characteristic(s) similar to those found in the basic model that is the subject of the petition.

a. Samsung, Whirlpool, LG, GE all have models which use a “Deep Fill” modifier button to add more water relative to the default fill level, but most of them would likely still fit the revised definition of user adjustable adaptive WFCS. The user interacts with these products in the same way as they would with our R16 basic model with “Deep Fill” option. However, without testing the competitor's models there is no way to know if they are fixed fill or adaptive fill.

7. Include any alternate test procedures known to the petitioner to evaluate the performance of the product type in a manner representative of the energy and/or water consumption characteristics of the basic model.

a. We believe that the procedure described in the amended J2 for a user adjustable adaptive WFCS would provide results that most represent real water and energy characteristics of this basic model, for the reasons shown below.

i. Reflects how the end user would interact with this product, which is the same as with other manufacturers models that also include a deep fill option and are tested using this method.

ii. Requires half of the test runs to be done with deep fill off and half with it turned on, so water usage for all possible settings that affect water level in the DOE test cycle are being tested and factored into the final result with equal weighting.

iii. The default fill level on this product is a fixed fill, which is still classified as an automatic fill system in the amended J2 procedure, and the deep fill option adjusts the water level relative to the default level. There are no manually selectable small, medium, or large load sizes.

iv. Selecting the deep fill option only changes the water level relative to the default level. It does not add any additional hot water, increase wash time, or change the cycle in any other way that would have a noticeable effect on energy usage of this product.

8. Each petition for interim waiver must reference the related petition for waiver.

a. Not applicable.

9. Demonstrate likely success of the petition for waiver and interim waiver, and address what economic hardship and/or competitive disadvantage is likely to result absent a favorable determination on the petition for waiver and interim waiver.

a. The amended J2 test procedure does not have a clear definition for testing a user adjustable fixed WFCS. Based on other similar products on the market that have a Deep Fill option and the fact that our R16 basic model interacts with the user in the same manner, we believe that testing using the procedure defined for user adjustable adaptive WFCS is appropriate for this product. If the waiver were to be denied and our R16 basic model had to be taken off the market, it would result in the loss of about 40% of our retail top load washer sales and the accompanying dryers.

Sincerely,

/s/

Daryl T. Johnson,

Manager—Small Chassis Engineering.

[FR Doc. 2023-06750 Filed 3-30-23; 8:45 am]

BILLING CODE 6450-01-P